DEPARTMENT OF ENERGY

Federal Energy Regulatory Commission

[Docket Nos. EC06-113-000, et al.]

Pacific Gas and Electric Company, et al.; Electric Rate and Corporate Filings

May 2, 2006.

The following filings have been made with the Commission. The filings are listed in ascending order within each docket classification.

1. Pacific Gas and Electric Company, Mirant Delta, LLC, and Mirant Special Procurement, Inc.

[Docket No. EC06-113-000]

Take notice that on April 17, 2006 Pacific Gas and Electric Company, Mirant Delta, LLC and Mirant Special Procurement, Inc. submitted an application seeking approval of the disposition of jurisdictional facilities pursuant to Section 203 of Federal Power Act and Part 33 of the Commission's regulations.

Comment Date: 5 p.m. eastern time on May 12, 2006.

2. Xcel Energy Services Inc.

[Docket No. EC06-114-000]

Take notice that on April 18, 2006 that Xcel Energy Services Inc. on behalf of Xcel Energy Operating Companies submitted an application for authorization to acquire short term debt securities through June 30, 2008, pursuant to Section 203 of the Federal Power Act.

Comment Date: 5 p.m. eastern time on May 12, 2006.

3. Astoria Generating Company, L.P.

[Docket No. EG06-49-000]

Take notice that on April 19, 2006 Astoria Generating Company, L.P. filed a notice of self-recertification of exempt wholesale generator status, pursuant to PUHCA of 2005 and 18 CFR 366.7 of the Commission regulations.

Comment Date: 5 p.m. eastern time on May 10, 2006.

4. Harry J. Pearce

[Docket No. ID-4852-000]

Take notice that on April 12, 2006, Harry J. Pearce submitted an application to hold interlocking positions pursuant to section 305(b) of the Federal Power Act.

Comment Date: 5 p.m. eastern time on May 31, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E6-6941 Filed 5-8-06; 8:45 am]

BILLING CODE 6717-01-P